CONSUMER PRODUCT SAFETY COMMISSION

Commission Agenda and Priorities; Notice of Extension of Time for Comments

AGENCY: U.S. Consumer Product Safety Commission.

ACTION: Comment request.

SUMMARY: On March 5, 2020, the U.S. Consumer Product Safety Commission (CPSC or Commission) published a notice announcing a public hearing and request for written comments and oral presentations concerning the Commission's agenda and priorities for fiscal years 2021 and 2022. The CPSC has postponed, until further notice, the public hearing. However, the Commission is extending the comment period for written comments until May 1, 2020.

DATES: Submit comments by 5 p.m. EDT on May 1, 2020.

ADDRESSES: Written comments should be captioned, “Agenda and Priorities FY 2021 and/or 2022,” and sent by electronic mail (email) to: cpsc-os@cpsc.gov, or mailed or delivered to the Division of the Secretariat, U.S. Consumer Product Safety Commission, 4330 East-West Highway, Bethesda, MD 20814. Written comments must be received no later than 5 p.m. EDT on May 1, 2020.

FOR FURTHER INFORMATION CONTACT: Alberta E. Mills, Division of the Secretariat, U.S. Consumer Product Safety Commission, 4330 East-West Highway, Bethesda, MD 20814; email: cpsc-os@cpsc.gov; telephone: (301) 504-7923; facsimile: (301) 504-0127. An electronic copy of the CPSC's budget request for fiscal year 2020 and the CPSC's 2018-2022 Strategic Plan can be found at: www.cpsc.gov/about-cpsc/agency-reports/performance-and-budget.

SUPPLEMENTARY INFORMATION: Section 4(j) of the Consumer Product Safety Act (CPSA) (15 U.S.C. 2053(j)) requires the Commission to establish an agenda for action under the laws the Commission administers, and to the extent feasible, select priorities for action at least 30 days before the beginning of each fiscal year. Section 4(j) of the CPSA provides further that before establishing its agenda and priorities, the Commission shall conduct a public hearing and provide an opportunity for the submission of comments.

On March 5, 2020, the CPSC published notice of public hearing in the Federal Register to announce that a priorities hearing would be conducted on April 15, 2020 (85 FR 12908). The Commission requested, by April 1, 2020, written comments and oral presentations concerning the Commission's agenda and priorities for fiscal years 2021 and 2022. Due to the extraordinary circumstances surrounding COVID-19, the Commission has postponed the hearing until further notice. However, the Commission invites written comments on the priorities as presented in the CPSC's Budget Request for fiscal year 2021, and extends the comment period until May 1, 2020. The FY 2021 Budget Request can be found at: www.cpsc.gov/about-cpsc/agency-reports/performance-and-budget. Please submit written comments as provided under the ADDRESSES section. Written comments must be received no later than 5 p.m. EDT on May 1, 2020.

Alberta E. Mills,
Secretary, U.S. Consumer Product Safety Commission.

[FR Doc. 2020-06944 Filed 4-2-20; 8:45 am]

BILLING CODE 6355-01-P